DEPARTMENT OF THE INTERIOR

National Park Service

[NPS-WASO-NAGPRA-NPS0035573; PPWOCRADN0-PCU00RP14.R50000]

Notice of Inventory Completion: U.S. Department of the Interior, Bureau of Indian Affairs, Washington, DC

AGENCY: National Park Service, Interior.

ACTION: Notice.

SUMMARY: In accordance with the Native American Graves Protection and Repatriation Act (NAGPRA), the U.S. Department of the Interior, Bureau of Indian Affairs (BIA) has completed an inventory of human remains and associated funerary objects and has determined that there is a cultural affiliation between the human remains and associated funerary objects and Indian Tribes or Native Hawaiian organizations in this notice. The human remains and associated funerary objects were removed from Mohave County, AZ.

DATES: Repatriation of the human remains and associated funerary objects in this notice may occur on or after May 4, 2023.

ADDRESSES: Tamara Billie, U.S. Department of Interior, Bureau of Indian Affairs, 1001 Indian School Road NW, Mailbox 44, Albuquerque, NM 87104, telephone (505) 879-9711, email tamara.billie@bia.gov.

SUPPLEMENTARY INFORMATION: This notice is published as part of the National Park Service's administrative responsibilities under NAGPRA. The determinations in this notice are the sole responsibility of the BIA. The National Park Service is not responsible for the determinations in this notice. Additional information on the determinations in this notice, including the results of consultation, can be found in the inventory or related records held by the BIA.

Description

Human remains representing, at minimum, seven individuals were removed from Mohave County, AZ. The human remains derive from four different sites.

In 1964, during an authorized highway improvement project, the Museum of Northern Arizona collected human remains representing, at minimum, one individual from a burial at Site NA8964. This site is located between State Route 389 and Cottonwood Creek, approximately 2.5 miles southwest of the intersection with U.S. Highway 89. The burial (Burial 1) contained the human remains of an adult who had been buried fully flexed and supine, with the head oriented to the west. No associated funerary objects are present. The site is associated with the Virgin tradition archeological complex, and based on the ceramic evidence, it was occupied during the Pueblo II period (A.D. 900-1150).

In 1965, during an authorized highway improvement project, the Museum of Northern Arizona collected human remains representing, at minimum, one individual from a burial at Site NA9072. This site is located approximately one mile south of Pipe Springs National Monument. The burial (Burial 1) contained the human remains of an adult 35+ years old who had been buried flexed on the left side, with the head oriented to the south. The six associated funerary objects are one Vermillion Black-on-white bowl, one Glendale Black-on-gray bowl, one miniature North Creek Corrugated jar, two North Creek Corrugated jars, and one petrified wood projectile point. The site is associated with the Virgin tradition archeological complex, and based on the ceramic evidence, it was occupied during the Pueblo II-III period (A.D. 1100-1300).

In 1965, during an authorized highway improvement project, the Museum of Northern Arizona collected human remains representing, at minimum, three individuals from three burials at Site NA9074. This site is located approximately three miles west of Pipe Springs National Monument on a large rise at the southern end of Pipe Valley. Burial 1 contained the human remains of a juvenile 11-13 years old who had been buried flexed on the back, with the head oriented to the west. No associated funerary objects are present. Burial 2 contained the human remains of an adult 35+ years old who had been buried fully flexed on the back, with the head oriented to the northeast. The 34 associated funerary objects are one quartz flake, one Moapa Corrugated sherd, one pebble polisher, one charcoal sample, and 30 sherds. Burial 3 contained the human remains of a fetus. No associated funerary objects are present. The site is associated with the Virgin tradition archeological complex, and based on the ceramic evidence, it was occupied during the Pueblo II-III period (A.D. 1000-1200).

In 1965, during an authorized highway improvement project, the Museum of Northern Arizona collected human remains representing, at minimum, two individuals from two burials at Site NA9079. This site is located within the right-of-way of State Route 389, near the intersection of Pipe Spring Road. Burial 1 contained the human remains of an adult male 45-55 years old who had been buried flexed and in a sitting position, with the head oriented to the southeast. The 99 associated funerary objects are one Boulder Gray jar, one North Creek Gray jar, one Shinarump Plain bowl, one Deadmans Black-on-red bowl, one miniature jar of unknown ware, one bone whistle, 16 ceramic sherds, 9 faunal bones, and 68 Olivella shell beads. Burial 2 contained the human remains of a juvenile 1.5-2.5 years old who had been buried flexed and supine, with the head oriented to the southwest. The nine associated funerary objects are one North Creek Corrugated jar, one Snake Valley Gray pitcher, two North Creek Gray canteens, one miniature Shinarump Plain jar, one St. George Black-on-gray bowl, one North Creek Black-on-gray bowl, one North Creek Gray effigy vessel, and one Olivella shell bead. The site is associated with the Virgin tradition archeological complex, and based on the ceramic evidence, it was occupied during the Pueblo II-III period (A.D. 1050-1250).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and oral traditional.

Determinations

Pursuant to NAGPRA and its implementing regulations, and after consultation with the appropriate Indian Tribes and Native Hawaiian organizations, the BIA has determined that:

• The human remains described in this notice represent the physical remains of seven individuals of Native American ancestry.

• The 148 objects described in this notice are reasonably believed to have been placed with or near individual human remains at the time of death or later as part of the death rite or ceremony.

• There is a relationship of shared group identity that can be reasonably traced between the human remains and associated funerary objects described in this notice and the Kaibab Band of Paiute Indians of the Kaibab Indian Reservation, Arizona.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 4, 2023. If competing requests for repatriation are received, the BIA must determine the most appropriate requestor prior to repatriation. Requests for joint repatriation of the human remains and associated funerary objects are considered a single request and not competing requests. The BIA is responsible for sending a copy of this notice to the Indian Tribe identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06914 Filed 4-3-23; 8:45 am]

BILLING CODE 4312-52-P